DEPARTMENT OF LABOR

Office of the Secretary

Submission for OMB Review; Comment Request

December 6, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or E-mail Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: BLS/OSHS Federal/State Cooperative Agreement (Application Package).

OMB Number: 1220-0149.

Affected Public: State, Local or Tribal Government.

Number of Respondents: 57.

Number of Annual Responses: 285.

Estimated Time Per Response and Total Burden Hours:

Form | Annual responses | Average burden (in hrs.): Per response | Average burden (in hrs.): Annually
Work Statements | 1 | 2 | 2
BLS-OSHS2 | 4 | 1 | 4
Totals | 5 |  | 6

Total Annualized Capital/Startup Costs: $0.

Total Annual Costs (operating/maintaining systems or purchasing services): $0.

Description: The Bureau of Labor Statistics signs cooperative agreements with states, and political subdivisions thereof, to assist them in developing and administering programs that deal with Occupational safety and Health Statistics (OSHS) and to arrange through these agreements for research to further the objectives of the Occupational Safety and Health Act. The OSHS Cooperative Agreement (CA) is the vehicle through which State Agencies are awarded funds.

Federal regional and national office staffs use information collected under the CA in order to carry out their fiduciary responsibilities to negotiate the CA funding levels with the State Agencies, to monitor their financial and programmatic performance, and to monitor their adherence to administrative requirements, which are imposed by 29 CFR part 967 and other grants-management-related regulations.

Ira L. Mills,
DOL Clearance Officer.

[FR Doc. 01-30856 Filed 12-13-01; 8:45 am]

BILLING CODE 4510-24-M